DEPARTMENT OF LABOR

Employment and Training Administration

[TA-W-81,688; TA-W-81,688B]

Osram Sylvania, Inc., General Lighting Formerly Known As Consumer Lighting Division, Including On-Site Leased Workers From Superior Technical Resources, St. Marys, Pennsylvania; Osram Sylvania, Including On-Site Leased Workers From Manpower and Superior Tech Services, York, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on July 9, 2012, applicable to workers of OSRAM SYLVANIA INC., General Lighting, formerly known as the Consumer Lighting division, including on-site leased workers from Superior Technical Resources, St. Marys, Pennsylvania (TA-W-81,688) and on-site leased workers from W&W and Sons Contractors, Inc. (TA-W-81,688A). The workers are engaged in activities related to the production of incandescent, halogen, and Light-Emitting Diodes (LED) light bulbs. The notice was published in the Federal Register on July 30, 2012 (77 FR 146).

Workers of OSRAM SYLVANIA INC., General Lighting, formerly known as the Consumer Lighting division, St. Marys, Pennsylvania were certified under petition number TA-W-71,711 that expired on October 1, 2011. The on-site leased workers from W&W and Sons Contractors, Inc. were not covered by that earlier certification.

At the request of the company official, the Department reviewed the certification for workers of the subject firm. New information from the company shows that workers of OSRAM SYLVANIA, including on-site leased workers from Manpower and Superior Tech Services, York, Pennsylvania were separated due to the same increased imports that led to separations at the St. Marys, Pennsylvania facility.

The intent of the Department's certification is to include all workers of the subject firm who were adversely affected by increased customer imports.

Based on these findings, the Department is amending this certification to include all workers of OSRAM SYLVANIA, including on-site leased workers from Manpower and Superior Tech Services, York, Pennsylvania.

The amended notice applicable to TA-W-81,688 is hereby issued as follows:

“All workers of OSRAM SYLVANIA INC., General Lighting, formerly known as the Consumer Lighting division, including on-site leased workers from Technical Superior Resources, St. Marys, Pennsylvania (TA-W-81,688) who became totally or partially separated from employment on or after October 2, 2011 through July 9, 2014, and all workers in the group threatened with total or partial separation from employment on July 9, 2012 through July 9, 2014 are eligible to apply for adjustment assistance under Chapter 2 of Title II of the Trade Act of 1974, as amended,

AND

All leased workers from W&W and Sons Contractors, Inc., working on-site at OSRAM SYLVANIA INC., General Lighting, formerly known as the Consumer Lighting division, St. Marys, Pennsylvania (TA-W-81,688A), and all workers of OSRAM SYLVANIA, including on-site leased workers from Manpower and Superior Tech Services, York, Pennsylvania (TA-W-81,688B) who became totally or partially separated from employment on or after June 5, 2011 through July 9, 2014, and all workers in the group threatened with total or partial separation from employment on July 9, 2012 through July 9, 2014, are eligible to apply for adjustment assistance under Chapter 2 of Title II of the Trade Act of 1974, as amended.”

Signed at Washington, DC, this 14th day of January 2014.
Michael W. Jaffe,
Certifying Officer, Office of Trade Adjustment Assistance.

[FR Doc. 2014-01539 Filed 1-27-14; 8:45 am]

BILLING CODE 4510-FN-P